DEPARTMENT OF THE INTERIOR

National Park Service

Boundary Revision

AGENCY: National Park Service, Department of the Interior.

ACTION: Notification of Boundary Revision.

SUMMARY: Notice is hereby given that the boundary of Virgin Islands National Park is modified to include one tract of land adjacent to the park. This revision is made to include privately owned property that the landowners wish to donate to the United States. The National Park Service has determined that inclusion of the tract within the park's boundary will make significant contributions to the purposes for which the park was established. After the United States acquires the tracts, the National Park Service will manage them in accordance with applicable law.

FOR FURTHER INFORMATION CONTACT: National Park Service, Mark Hardgrove, Superintendent, Virgin Islands National Park, 1300 Cruz Bay Creek, St. John, V.I. 00830.

DATES: The effective date of this boundary revision is the date of publication in the Federal Register.

SUPPLEMENTARY INFORMATION: The Act of August 2, 1956, 70 Stat. 940, codified as amended at 16 U.S.C. 398, established the Virgin Islands National Park and provides that after advising the House Committee on Natural Resources and the Senate Committee on Energy and Natural Resources, the Secretary of the Interior is authorized to make these boundary revisions. This action will add one tract comprising 2.21 acres of land, more or less, to the Virgin Islands National Park. The acquisition of this tract is required to maintain the park's natural and ecological integrity. The tract is listed as follows: Estate Concordia A, 15A Coral Bay Quarter, Parcel 30-3, comprising 2.21 acres. The referenced tract is depicted on land acquisition status map segment 07, having drawing number 161/92,009. This map is on file at the National Park Service, Land Resources Program Center, Southeast Region, and at the Office of the Superintendent, Virgin Islands National Park.

Note: When contacting this office or any government office, before including your address, phone number, e-mail address or other personal identifying information in your comment, you should be aware that your entire comment—including your personal identifying information—may be made publicly available at any time. While you can ask us in your comment to withhold your personal identifying information from public review, we cannot guarantee that we will be able to do so.

Dated: January 27, 2009.
David Vela,
Regional Director, Southeast Region.

Editorial Note: This document was received in the Office of the Federal Register on July 21, 2009.

[FR Doc. E9-17709 Filed 7-23-09; 8:45 am]

BILLING CODE 4310-VP-P